POSTAL SERVICE

39 CFR Part 960

Equal Access to Justice Act in Postal Service Proceedings

AGENCY: Postal Service.

ACTION: Final rule.

SUMMARY: This document amends the rules of the Equal Access to Justice Act in Postal Service Proceedings to clarify the applicable rule for reconsideration of a decision on a fee application in Postal Board of Contract Appeal proceedings.

DATES: Effective June 17, 2025.

ADDRESSES: Postal Service Judicial Officer Department, 2101 Wilson Boulevard, Suite 600, Arlington, VA 22201-3078.

FOR FURTHER INFORMATION CONTACT: Staff Attorney Sheena Allen (240) 636-4158

SUPPLEMENTARY INFORMATION:

A. Background

The rules of practice at 39 CFR 960.20(b) state that a party may seek reconsideration of the decision on the fee application in accordance with 39 CFR 955.30. While either party retains the option to seek reconsideration according to Part 955, the statement is generalized in consideration of any amendments to Part 955.

No other changes to the rules have been made.

B. Explanation of Changes

In § 960.20 the Postal Service is replacing the text “39 CFR 955.30” with “the procedures in 39 CFR part 955”.

List of Subjects in 39 CFR Part 960

Claims, Equal access to justice, Lawyers.

Accordingly, for the reasons stated, 39 CFR part 960 is amended as follows:

PART 960—EQUAL ACCESS TO JUSTICE ACT IN POSTAL SERVICE PROCEEDINGS

1. The authority citation for part 960 continues to read as follows:

Authority: 5 U.S.C. 504(c)(1); 39 U.S.C. 204, 401(2).

2. In § 960.20, revise paragraph (b) to read as follows:

§ 960.20 Further Postal Service review

* * * * *

(b) In Board of Contract Appeals proceedings, either party may seek reconsideration of the decision on the fee application in accordance with the procedures in 39 CFR part 955.

Kevin Rayburn,
Attorney, Ethics and Legal Compliance.

[FR Doc. 2025-10962 Filed 6-16-25; 8:45 am]

BILLING CODE P